DEPARTMENT OF THE INTERIOR

National Park Service

[NPS-WASO-BSAD-CONC-NPS0028674; PPWOBSADC6, PPMVSCS1Y.Y00000, (200) P103601; OMB Control Number 1024-0233]

Agency Information Collection Activities; National Park Service Leasing Program

AGENCY: National Park Service, Interior.

ACTION: Notice of information collection; request for comment.

SUMMARY: In accordance with the Paperwork Reduction Act of 1995, we, the National Park Service (NPS) are proposing to renew an information collection.

DATES: Interested persons are invited to submit comments on or before May 18, 2020.

ADDRESSES: Send your comments on this information collection request (ICR) by mail to Phadrea Ponds, Acting Information Collection Clearance Officer, National Park Service, 1201 Oakridge Drive Fort Collins, CO 80525; or by email to phadrea_ponds@nps.gov. Please reference Office of Management and Budget (OMB) Control Number 1024-0233 in the subject line of your comments.

FOR FURTHER INFORMATION CONTACT: To request additional information about this ICR, contact Gordy Kito by email at gordy_kito@nps.gov, or by telephone at 202-354-2096.

SUPPLEMENTARY INFORMATION: In accordance with the PRA and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The NPS Leasing Program allows any person or government entity to lease buildings and associated property administered by the Secretary of the Interior as part of the National Park System, under the authority of the Director of the NPS. A lease may not authorize an activity that could be authorized by a concessions contract or commercial use authorization. All leases must provide for the payment of fair market value rent. The Director may retain rental payments for park infrastructure needs and, in some cases, to provide administrative support of the leasing program.

The authority to collect information for the Leasing Program is derived from 54 U.S.C. 102101 et seq., 54 U.S.C. 306121, and 36 CFR part 18. For competitive leasing opportunities, the regulations require the submission of proposals or bids by parties interested in applying for a lease. The regulations also require that the Director approve lease amendments, construction or demolition of structures, and encumbrances on leasehold interests.

We collect information from anyone who wishes to submit a bid or proposal to lease a property. The Director may issue a request for bids if the amount of rent is the only criterion for award of a lease. The Director issues a request for proposals when the award of a lease is based on selection criteria other than the rental rate. A request for proposals may be preceded by a request for qualifications to select a “short list” of potential offerors that meet minimum management, financial, and other qualifications necessary for submission of a proposal.

The Director may enter into negotiations for a lease with nonprofit organizations and units of government without soliciting proposals or bids. In those cases, the Director collects information from the other party regarding the planned use of the premises, potential modifications to the premises, and other information as necessary to support a decision on whether or not to enter into a lease.

Information is also collected from existing leaseholders who seek to:

• Sublet a leased property or assign the lease to a new lessee.

• Construct or demolish portions of a leased property.

• Amend a lease to change the type of activities permitted under the lease.

• Encumber (mortgage) the leased premises.

We use the information collected to evaluate offers, proposed subleases or assignments, proposed construction or demolition, the merits of proposed lease amendments, and proposed encumbrances. The completion times for each information collection requirement vary substantially depending on the complexity of the leasing opportunity.

Title of Collection: National Park Service Leasing Program, 36 CFR part 18.

OMB Control Number: 1024-0233.

Form Number: NPS Forms 10-352 through 10-355.

Type of Review: Extension of a currently approved collection.

Respondents/Affected Public: Individuals/households and businesses seeking to submit a bid or proposal to lease NPS property.

Respondent's Obligation: Required to obtain or retain a benefit.

Frequency of Collection: On occasion.

Total Estimated Annual Nonhour Burden Cost: None.

Activity | Total annual responses | Completion time per response (hours) | Total annual burden hours
Requests for Qualifications/ Requests for Proposals/Requests for Bids—Simple | 10 | 8 | 80
Requests for Qualifications/ Requests for Proposals—Complex | 10 | 40 | 400
Lessee Construction/Demolition—Simple | 1 | 12 | 12
Lessee Construction/Demolition—Complex | 2 | 32 | 64
Lease Amendments | 2 | 4 | 8
Lessee Encumbrances—Simple | 2 | 8 | 16
Lessee Encumbrances—Complex | 2 | 40 | 80
Subletting and Assignment of Leases—Simple | 4 | 8 | 32
Subletting and Assignment of Leases—Complex | 1 | 40 | 40
Totals | 34 |  | 732

An agency may not conduct or sponsor and a person is not required to respond to a collection of information unless it displays a currently valid OMB control number.

The authority for this action is the Paperwork Reduction Act of 1995 (44 U.S.C. 3501 et seq.).

Phadrea Ponds,
Acting NPS Information Collection Clearance Officer, National Park Service.

[FR Doc. 2020-05528 Filed 3-17-20; 8:45 am]

BILLING CODE 4312-52-P